FEDERAL EMERGENCY MANAGEMENT AGENCY

Agency Information Collection Activities: Proposed Collection; Comment Request

ACTION: Notice and request for comments.

SUMMARY: The Federal Emergency Management Agency (FEMA), as part of its continuing effort to reduce paperwork and respondent burden, invites the general public and other Federal agencies to take this opportunity to comment on proposed new information collections. In accordance with the Paperwork Reduction Act of 1995 (44 U.S.C. 3506(c)(2)(A)), this notice seeks comments concerning implementation of Project Impact Baseline and Progress Reports in Project Impact communities. These reports will provide data, both narrative and quantitative, for assessing a community's progress towards disaster resistance.

SUPPLEMENTARY INFORMATION: Congress tasked FEMA with the responsibility to design and implement a meaningful pre-disaster initiative that would reduce rapidly escalating disaster costs, and provided funding towards that goal. This initiative is entitled Project Impact: Building a Disaster Resistant Community. Congress, through the mechanism of the Government Performance Results Act, requires that we show that the money is being used effectively by establishing a systematic process of evaluation. The Baseline Report and subsequent Annual Progress Report provide a means of data collection for this objective and have been developed to capture the progress of a community towards disaster resistance in a non-disaster situation. The questions in both reports request information relevant to the hazards and vulnerabilities faced by the community. There are also questions that request information about damage prevention activity and public education and awareness activity. The requested information will not only gauge the momentum towards disaster resistance but will indicate success of the collaborative processes as well. The data collected will also be used as a basis for initiative development.

The community may also use the data for their own evaluation. The results of the evaluation, particularly when they reflect hard work and accomplishment, can be publicized as a way of affirming the community's commitment to the initiative in the previous year. Included in the reports are questions about the community's insurance ratings (the Building Code Effectiveness Grading Scale (BCEGS) and the Community Rating System (CRS)). These indicators provide financial incentives, in the form of lower premium rates, to communities who are increasing their disaster resistance.

Collection of Information

Title. Project Impact Baseline and Annual Progress Reports.

Type of Information Collection. New.

Abstract. The Baseline report, due only the 1st year and 60 days after the Signing Ceremony, is critical to provide a picture of the community's ability to withstand disasters at the beginning of its designation as a Project Impact community. It requests information necessary to evaluate the disaster resistant status of a community and should help Project Impact Communities establish their initial focus. The Annual Progress Report, which is due annually to FEMA for five years starting on the 1st anniversary of the Signing Ceremony, allows FEMA to assess the community's progress with respect to both national goals and program initiatives. It also provides an opportunity for a community to evaluate its own success with respect to local goals. Both of these data collection mechanisms provide means to measure the proper use of grant funding as well as data for Government Performance Results Act (GPRA) reporting.

Affected Public: Completing the form will be the primary responsibility of the Local Government or their designee but will contain information about households, businesses, not for profit institutions, State, Local, and tribal Government.

FEMA Forms | No. of respondents (A) | Frequency of response (B) | Hours per response (C) | Annual burden hours (A × B × C)
Baseline Report | 65 | One-time | 2 Hours | 130 Hours
Progress Reports | 113 | Annually | 2 Hours | 226 Hours
Total | 178 |  |  | 356 Hours

Estimated Cost. $15,000.00 (Fifteen Thousand dollars).

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Record Management Branch, Program Service Division, Operations Support Directorates, Federal Emergency Management Agency, 500 C Street, SW, Room 316, Washington, DC 20472. Telephone number (202) 646-2625. FAX number (202) 646-3524, Or e-mail muriel.anderson@fema.gov.

FOR FURTHER INFORMATION CONTACT: Contact Priscilla Scruggs, Evaluation and Assessment Specialist, Mitigation Directorate—Project Impact, at (202) 646-4155 for additional information. Contact Muriel B. Anderson at (202) 646-2625 for copies of the proposed collection of information.

Mike Bozzelli,
Acting Director, Program Services Division, Operations Support Directorate.

[FR Doc. 00-14298 Filed 6-6-00; 8:45 am]

BILLING CODE 6718-01-P